DEPARTMENT OF COMMERCE

Economics and Statistics Administration

Performance Review Board Membership

SUMMARY: Below is a listing of individuals who are eligible to serve on the Performance Review Board in accordance with the Economics and Statistics Administration Senior Executive Service (SES) Performance Appraisal System:

Carol A. Ambler

William Barron

William G. Bostic, Jr.

Chester E. Bowie

Cynthia Z.F. Clark

Nancy M. Gordon

Frederick Knickerbocker

Steve Landefeld

John F. Long

Michael S. McKay

Thomas Messenbourg

C. Harvey Monk

Walter C. Odom, Jr.

Judith N. Petty

Nancy Potok

Marvin D. Raines

Paula Schneider

John Thompson

Preston J. Waite

Katherine Wallman

James K. White

Tommy Wright

Dated: August 29, 2000.
James K. White,
Associate Under Secretary for Management Chair, Performance Review Board.

[FR Doc. 00-22551 Filed 8-31-00; 8:45 am]

BILLING CODE 3510-06-M